NUCLEAR REGULATORY COMMISSION

[Docket No. 55-62335-SP; ASLBP No. 09-891-01-SP-BD01]

David B. Kuhl, II; Establishment of Atomic Safety and Licensing Board

Establishment of Atomic Safety and Licensing Board

Pursuant to delegation by the Commission dated December 29, 1972 (37 FR 28,710), and the Commission's regulations, see 10 CFR 2.103(b), 2.309, 2.313(a), and 2.318, notice is hereby given that an Atomic Safety and Licensing Board (Board) is being established to preside over the following proceeding:

David B. Kuhl, II (Denial of Senior Reactor Operator License)

This proceeding concerns a request for hearing from David B. Kuhl, II, dated May 28, 2009. His request is in response to a denial letter from the Office of Nuclear Reactor Regulation (NRR) dated May 13, 2009 notifying him that, following an administrative review, NRR was in agreement with Region I's decision of February 20, 2009 not to issue him a Senior Reactor Operator License for the Beaver Valley Power Station.

The Board is comprised of the following administrative judges:

Paul S. Ryerson, Chair, Atomic Safety and Licensing Board Panel, U.S. Nuclear Regulatory Commission, Washington, DC 20555-0001.

Alan S. Rosenthal, Atomic Safety and Licensing Board Panel, U.S. Nuclear Regulatory Commission, Washington, DC 20555-0001.

Michael F. Kennedy, Atomic Safety and Licensing Board Panel, U.S. Nuclear Regulatory Commission, Washington, DC 20555-0001.

As provided in 10 CFR 2.302, all correspondence, documents, and other materials shall be filed in accordance with the NRC E-Filing rule, which the NRC promulgated in August 2007 (72 FR 49,139).

Issued at Rockville, Maryland, this 15th day of June 2009.
E. Roy Hawkens,
Chief Administrative Judge, Atomic Safety and Licensing Board Panel.

[FR Doc. E9-14435 Filed 6-18-09; 8:45 am]

BILLING CODE 7590-01-P